UNIFIED CARRIER REGISTRATION PLAN

Sunshine Act Meetings

TIME AND DATE: August 7, 2025, 12:00 p.m. to 3:00 p.m., EDT

PLACE: The meeting will be accessible via conference call and via Zoom Meeting and Screenshare. Any interested person may call (i) 1-929-205-6099 (US Toll) or 1-669-900-6833 (US Toll), Meeting ID: 929 6697 3936, to listen and participate in this meeting. The website to participate via Zoom Meeting and Screenshare is https://kellen.zoom.us/meeting/register/pZ4egaUkR922s1nYPv7omg.

STATUS: This meeting will be open to the public.

MATTERS TO BE CONSIDERED: The Unified Carrier Registration Plan Board of Directors (the “Board”) will continue its work in developing and implementing the Unified Carrier Registration Plan and Agreement. The subject matter of this meeting will include:

Proposed Agenda

I. Welcome and Call to Order—UCR Board Chair

The UCR Board Chair will welcome attendees, call the meeting to order, call roll for the Board, confirm the presence of a quorum, and facilitate self-introductions.

II. Verification of Publication of Meeting Notice—UCR Executive Director

The UCR Executive Director will verify publication of the meeting notice on the UCR website and distribution to the UCR contact list via email, followed by subsequent publication of the notice in the Federal Register.

III. Review and Approval of Board Agenda—UCR Board Chair

For Discussion and Possible Board Action

The proposed Agenda will be reviewed. The Board will consider action to adopt.

Ground Rules

➢ Board actions taken only in designated areas on the agenda

IV. Approval of Minutes of the June 12, 2025, UCR Board Meeting—UCR Board Chair

For Discussion and Possible Board Action

Draft Minutes from the June 12, 2025, UCR Board meeting will be reviewed. The Board will consider action to approve.

V. Report of FMCSA—FMCSA Representative

The Federal Motor Carrier Safety Administration (FMCSA) will provide a report on any relevant agency activity.

VI. Possible Renewal of Contracts for Compliance Specialists at Seikosoft and DSL Transportation Services, Inc.—UCR Board Chair, UCR Executive Director, Seikosoft and DSL

For Discussion and Possible Board Action

The UCR Board Chair, UCR Executive Director, Seikosoft, and DSL will discuss possible renewal of the current contracts with Seikosoft (for 2 FTEs) and DSL Transportation Services, Inc. (for 2 FTEs), for compliance specialists expiring on September 30, 2025. The Board may take action to approve the renewal of the contracts on terms and conditions approved by the Board.

VII. Possible Renewal of Contract With the UCR Executive Director—UCR Board Chair, UCR Legal Counsel

For Discussion and Possible Board Action

The UCR Board Chair, and UCR Plan Legal Counsel will discuss possible renewal of the current contract with the UCR Executive Director expiring on October 31, 2025. The Board may take action to approve the renewal of the contract on terms and conditions approved by the Board.

VIII. Possible Renewal of Contract With Kellen—UCR Board Chair, UCR Executive Director, UCR Legal Counsel

For Discussion and Possible Board Action

The UCR Board Chair, UCR Executive Director, and UCR Legal Counsel will discuss possible renewal of the UCR Plan's contract with Kellen for an additional one-year term as provided in the UCR Plan's current contract with Kellen. The Board may take action to exercise the option to renew the current UCR Plan contract with Kellen for an additional one-year period under such terms provided under the current contract.

IX. Subcommittee Reports

Audit Subcommittee—UCR Audit Subcommittee

No report.

Dispute Resolution Subcommittee—UCR Dispute Resolution Subcommittee Chair

The UCR Dispute Resolution Subcommittee Chair will report on the Dispute Resolution Subcommittee meeting that took place on July 10, 2025.

Education and Training Subcommittee—UCR Education and Training Subcommittee Chair

The UCR Education and Training Subcommittee Chair will provide an update on key projects and initiatives, including the ongoing development of the learning management program and training modules, awareness and engagement efforts for various stakeholders, and the optimization of the website and newsletter.

Enforcement Subcommittee—UCR Enforcement Subcommittee Chair

The UCR Enforcement Subcommittee Chair will provide an update on current and planned initiatives, including efforts to enhance UCR enforcement efficiency, and recognition of states and inspectors.

Finance Subcommittee—UCR Finance Subcommittee Chair and UCR Depository Manager

A. Possible Approval of a 2027 UCR Plan Registration Year Fee and Revenue Requirement Recommendation to United States Department of Transportation/Federal Motor Carrier Safety Administration (“USDOT/FMCSA”) (From the Finance Subcommittee)—UCR Finance Subcommittee Chair and UCR Depository Manager

For Discussion and Possible Board Action

The UCR Finance Subcommittee Chair and UCR Depository Manager will present the Finance Subcommittee's recommendation to the Board regarding the 2027 UCR Plan Registration Year fee and revenue requirement including its analysis. The Board may take action to approve a 2027 UCR Plan Registration Year fee recommendation and revenue requirement to be forwarded to USDOT/FMCSA its consideration.

B. Selection of an External Auditor To Audit the Unified Carrier Registration Plan Depository for the Year Ended December 31, 2024—UCR Finance Subcommittee Chair and UCR Depository Manager

The UCR Finance Subcommittee Chair and UCR Depository Manager will discuss the engagement of WBL as an External Auditor to audit the UCR Plan Depository for the Year Ended December 31, 2024.

Industry Advisory Subcommittee—UCR Industry Advisory Subcommittee Chair and UCR Plan Board Member Monte Wiederhold

UCR Plan Board member Monte Wiederhold will discuss Broker transparency under 49 CFR 371.3. Mr. Wiederhold will seek input during the discussion as to why this regulation is not being enforced and what can be done to achieve more enforcement?

Mr. Wiederhold will also discuss the process and numbers of Brokers registering for UCR.

X. Contractor Reports—UCR Board Chair

UCR Executive Director Update

The UCR Executive Director will provide a report covering his recent activity for the UCR Plan.

UCR Administrator Update (Kellen)

The UCR Chief of Staff will provide a management update covering any additional activity for the Depository, Operations, and Communications.

DSL Transportation Services, Inc.

DSL Transportation Services, Inc. will report on the latest data from the FARs program, Tier 5 and 6 unregistered motor carriers, and other matters.

Seikosoft

Seikosoft will provide an update on its recent/new activity related to the UCR's National Registration System.

XI. Other Business—UCR Board Chair

The UCR Board Chair will call for any other business, old or new, from the floor.

XII. Adjournment—UCR Board Chair

The UCR Board Chair will adjourn the meeting.

The agenda will be available no later than 5:00 p.m. Eastern daylight time, July 30, 2025, at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2025-14926 Filed 8-4-25; 4:15 pm]

BILLING CODE 4910-YL-P